DEPARTMENT OF AGRICULTURE

Submission for OMB Review; Comment Request

August 2, 2017.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by September 6, 2017 will be considered. Written comments should be addressed to: Desk Officer for Agriculture, Office of Information and Regulatory Affairs, Office of Management and Budget (OMB), New Executive Office Building, 725—17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Office of Advocacy and Outreach

Title: USDA/HSI Scholars Program Applications.

OMB Control Number: 0503-New.

Summary of Collection: The purpose of the U.S. Department of Agriculture (USDA) Hispanic-Serving Institutions (HSI) Scholars Program is to strengthen the long-term partnership between USDA and the HSIs; to increase the number of students studying and graduating in food, agriculture, natural resources, and other related fields of study, to develop a pool of scientists and professionals to fill jobs in the food, agricultural, natural resources system; and to create a talent pipeline for USDA. The USDA/HSI Scholars Program is a joint human capital initiative between the USDA and Hispanic-Serving Institutions. Through the program, USDA will offer scholarships to high school and college students who are seeking a bachelor's degree in the field of agriculture, food, or natural resource sciences and related disciplines at Hispanic-Serving Institutions. The USDA/HSI Scholars Program will offer scholarships and internships for a period of up to 4 years. The authority to collect this information is under 5 CFR 213.3102(r).

Need and Use of the Information: Information will be collected to determine the eligibility of applicants to the USDA/HSI Scholars Program. Each applicant to the program will be required to apply to announcements of the USDA/HSI Scholars Program and submit an application with required documentation. The required documentation will include: (1) A resume; (2) Proof of acceptance or enrollment in school, a letter of acceptance, or proof of registration, or letter from school official on official letterhead; (3) A copy of the last high school or college transcript; and (4) Two letters of recommendation. The collected information is needed to review all components of the application for completeness; and determine if the application meets the minimum eligibility requirements to be considered for the USDA/HSI Scholars Program. Also the collected information will be used to determine if the applicants are a good fit for the university and agency based on their proposed major, interest, future academic/professional goals, and grade point average. Without the information the USDA/HSI Scholars Program would not be able to function consistently.

Description of Respondents: Individuals or households.

Number of Respondents: 600.

Frequency of Responses: Reporting: Annually.

Total Burden Hours: 600.

Ruth Brown,
Departmental Information Collection Clearance Officer.

[FR Doc. 2017-16544 Filed 8-4-17; 8:45 am]

BILLING CODE 3412-88-P